DEPARTMENT OF THE INTERIOR

National Park Service

National Register of Historic Places; Notification of Pending Nominations

Nominations for the following properties being considered for listing in the National Register were received by the National Park Service before December 18, 2004. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, (202) 371-6447. Written or faxed comments should be submitted by January 24, 2005.

Carol D. Shull,
Keeper of the National Register of Historic Places.

COLORADO

Boulder County

McKenzie Well, Near Independence Rd. and CO 119, Boulder, 04001553

Denver County

McClintock Building, (Downtown Denver MPS), 1550-58 California St./622-40 16th St., Denver, 04001554

Telephone Building, (Downtown Denver MPS), 931 14th St., Denver, 04001555

Connecticut

Fairfield County

Hodgson, Richard and Geraldine, House, 881 Ponus Ridge Rd., New Canaan, 04001549

New Haven County

Mory's, 306 York St., New Haven, 04001552

New London County

Central Vermont Railroad Pier, State Pier Rd., New London, 04001551

GEORGIA

Carroll County

Lawler Hosiery Mill, 301 Bradley St., Carrollton, 04001558

Dooly County

Vienna Historic District, (Georgia County Courthouses TR (AD)), Roughly centered on the downtown commercial district and includes residential areas and the rail line, Vienna, 04001557

MISSOURI

Moniteau County

High Point Historic District, 61235-61243 MO C, High Point, 04001561

St. Louis Independent City

Buster Brown Blue Ribbon Shoe Factory, 1526 N. Jefferson Ave., St. Louis (Independent City), 04001560

Ford Apartments, 1405 Pine St., St. Louis (Independent City), 04001562

Sanford Avenue Historic District, 1000 blk. Sanford Ave., St. Louis (Independent City), 04001559

SOUTH CAROLINA

Lee County

Dennis High School, (African-American Primary and Secondary School Buildings MPS), 410 W. Cedar Ln., Bishopville, 04001565

Pickens County

Smith, J. Warren, House, 21 N. Palmetto St., Liberty, 04001564

Spartanburg County

First Presbyterian Church of Woodruff, 300 W. Georgia St., Woodruff, 04001563

UTAH

Salt Lake County

Landenberger, John C. and Mary, House, 58 N. Virginia St., Salt Lake City, 04001567

Murray Downtown Residential Historic District, (Murray City, Utah MPS), Roughly bounded by 4800 South, Clark St., Vine St. and Center St., Murray, 04001566

WASHINGTON

Washington County

Forest Grove, 1200 GA 242/Riddleville Rd., Sandersville, 04001556

[FR Doc. 05-349 Filed 1-6-05; 8:45 am]

BILLING CODE 4312-51-P